DEPARTMENT OF JUSTICE

Drug Enforcement Administration

[Docket No. DEA-940]

Bulk Manufacturer of Controlled Substances Application: Organix Inc.

AGENCY: Drug Enforcement Administration, Justice.

ACTION: Notice of application.

SUMMARY: Organix Inc. has applied to be registered as a bulk manufacturer of basic class(es) of controlled substance(s). Refer to Supplemental Information listed below for further drug information.

DATES: Registered bulk manufacturers of the affected basic class(es), and applicants therefore, may file written comments on or objections to the issuance of the proposed registration on or before February 22, 2022. Such persons may also file a written request for a hearing on the application on or before February 22, 2022.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on September 16, 2021, Organix Inc., 240 Salem Street, Woburn, Massachusetts 01801-2029, applied to be registered as a bulk manufacturer of the following basic class(es) of controlled substance(s):

Controlled substance | Drug code | Schedule
Gamma Hydroxybutyric Acid | 2010 | I
Lysergic acid diethylamide | 7315 | I
Marihuana | 7360 | I
Tetrahydrocannabinols | 7370 | I
Mescaline | 7381 | I
3,4,5- Trimethoxyamphetamine | 7390 | I
4-Bromo-2,5-dimethoxyphenethylamine | 7392 | I
3,4-Methylenedioxyamphetamine | 7400 | I
3,4-Methylenedioxymethamphetamine | 7405 | I
5-Methoxy-N-N-dimethyltryptamine | 7431 | I
Alpha-Methyltryptamine | 7432 | I
Bufotenine | 7433 | I
Diethyltryptamine | 7434 | I
Dimethyltryptamine | 7435 | I
Psilocybin | 7437 | I
Psilocyn | 7438 | I
2-(2,5-Dimethoxy-4-methylphenyl) ethanamine (2C-D) | 7508 | I
2-(2,5-Dimethoxyphenyl) ethanamine (2C-H) | 7517 | I
2-(4-Iodo-2,5-dimethoxyphenyl) ethanamine (2C-I) | 7518 | I
Heroin | 9200 | I
Morphine | 9300 | II

The company plans to synthesize the above listed controlled substances for distribution to its customers. In reference to dug codes 7360 (Marihuana), and 7370 (Tetrahydrocannabinols), the company plans to bulk manufacture these drugs as synthetic. No other activities for these drug codes are authorized for this registration.

Brian S. Besser,
Acting Assistant Administrator.

[FR Doc. 2021-27635 Filed 12-20-21; 8:45 am]

BILLING CODE 4410-09-P